DEPARTMENT OF TRANSPORTATION

Federal Aviation Administration

14 CFR Part 39

[Docket No. 99-NM-349-AD; Amendment 39-11631; AD 2000-05-21]

RIN 2120-AA64

Airworthiness Directives; Airbus Model A319, A320, A321, A330, and A340 Series Airplanes

AGENCY: Federal Aviation Administration, DOT.

ACTION: Final rule.

SUMMARY: This amendment adopts a new airworthiness directive (AD), applicable to certain Airbus Model A319, A320, A321, A330, and A340 series airplanes, that requires revising the Airplane Flight Manual to provide the flight crew with certain instructions associated with the Global Positioning System (GPS). This amendment also requires modification of the Global Positioning System Signal Unit (GPSSU) of the satellite navigational system. This amendment is prompted by issuance of mandatory continuing airworthiness information by a foreign civil airworthiness authority. The actions specified by this AD are intended to prevent position and altitude errors due to bad oscillator warm-up characteristics of the GPSSU, which could result in navigational errors that may exceed 0.5 nautical mile.

DATES: Effective April 27, 2000.

The incorporation by reference of certain publications listed in the regulations is approved by the Director of the Federal Register as of April 27, 2000.

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Norman B. Martenson, Manager, International Branch, ANM-116, FAA, Transport Airplane Directorate, 1601 Lind Avenue, SW., Renton, Washington 98055-4056; telephone (425) 227-2110; fax (425) 227-1149.

SUPPLEMENTARY INFORMATION: A proposal to amend part 39 of the Federal Aviation Regulations (14 CFR part 39) to include an airworthiness directive (AD) that is applicable to certain Airbus Model A319, A320, A321, A330, and A340 series airplanes was published in the Federal Register on January 10, 2000 (65 FR 1350). That action proposed to require revising the Airplane Flight Manual to provide the flight crew with certain instructions associated with the Global Positioning System (GPS). That action also proposed to require modification of the Global Positioning System Signal Unit (GPSSU) of the satellite navigational system.

Comments

Interested persons have been afforded an opportunity to participate in the making of this amendment. No comments were submitted in response to the proposal or the FAA's determination of the cost to the public.

Explanation of Change Made

Paragraphs (b)(3) and (b)(3)(i) of this AD have been changed to correct typographical errors that resulted in references to an incorrect service bulletin number. Paragraph (b)(3) of the proposed rule references “Airbus Service Bulletin A30-34-4089, Revision 01, dated September 28, 1999” as the appropriate source of service information for accomplishment of the modification required by paragraph (b) of the AD. Paragraph (b)(3)(i) of the proposed rule incorrectly references “Airbus Service Bulletin A330-34-4089, Revision 01, dated September 28, 1999.” This AD references the appropriate service bulletin as “Airbus Service Bulletin A340-34-4089, Revision 01, dated September 28, 1999, for accomplishment of the modification required by paragraph (b) of this AD.

Conclusion

After careful review of the available data, the FAA has determined that air safety and the public interest require the adoption of the rule with the change described previously. The FAA has determined that this change will neither increase the economic burden on any operator nor increase the scope of the AD.

Cost Impact

The FAA estimates that 1 airplane of U.S. registry will be affected by this AD.

It will take approximately 1 work hour per airplane to accomplish the required Airplane Flight Manual (AFM) revision, at an average labor rate of $60 per work hour. Based on these figures, the cost impact of the AFM revision required by this AD on U.S. operators is estimated to be $60, or $60 per airplane.

It will take approximately 1 work hour per airplane to accomplish the required modification, at an average labor rate of $60 per work hour. Based on these figures, the cost impact of the modification required by this AD on U.S. operators is estimated to be $60, or $60 per airplane.

It will take between 3 to 14 work hours per airplane to accomplish the additional modifications required to be accomplished prior to or concurrent with the required modification, at an average labor rate of $60 per work. Required parts will be provided by the vendor or manufacturer at no cost to the operators. Based on these figures, the cost impact of the additional modifications required by this AD on U.S. operators is estimated to be between $180 to $840 per airplane.

The cost impact figures discussed above are based on assumptions that no operator has yet accomplished any of the proposed requirements of this AD action, and that no operator would accomplish those actions in the future if this AD were not adopted.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2000-05-21 Airbus Industrie: Amendment 39-11631. Docket 99-NM-349-AD.

Applicability: Model A319, A320, A321, A330, and A340 series airplanes, certificated in any category, as follows:

1. Model A319, A320, and A321 series airplanes on which Airbus Modification 28578 (Airbus Service Bulletin A320-34-1191, dated July 12, 1999), or Airbus Modification 28579 (Airbus Service Bulletin A320-34-1196, dated July 15) has not been accomplished; equipped with a LITTON Global Positioning Satellite Signal Unit (GPSSU) having Part Number (P/N) 465205-0302-0303 installed in accordance with Airbus Service Bulletin A320-34-1119 (Airbus Modification 23885).

2. Model A330 series airplanes on which Airbus Modification 46961 (Airbus Service Bulletin A330-34-3082, Revision 01, dated September 28, 1999), or Airbus Modification 47327 (Airbus Service Bulletin A330-34-3086, Revision 01, dated September 28, 1999) has not been accomplished; equipped with a LITTON GPSSU having P/N 465205-0302-0302 or 465205-0302-0303.

3. Model A340 series airplanes on which Airbus Modification 46961 (Airbus Service Bulletin A340-34-4089, Revision 01, dated September 28, 1999), or Airbus Modification 47327 (Airbus Service Bulletin A340-34-4092, Revision 01, dated September 28, 1999) has not been accomplished; equipped with a LITTON GPSSU having P/N 465205-0302-0302 or 465205-0302-0303.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To prevent position and altitude errors due to bad oscillator warm-up characteristics of the GPSSU, which could result in navigational errors that may exceed 0.5 nautical mile, accomplish the following:

AFM Revision

(a) Within 10 days after the effective date of this AD, revise the Limitations

Section of the FAA-approved Airplane Flight Manual (AFM) to include the following procedures. This may be accomplished by inserting a copy of this AD in the AFM.

“Operation:

—GPS Stand-alone and GPS overlay non-precision approaches are not allowed.

—The GPS must be deselected before non-precision approach.

—The GPS must be deselected for the remainder of the flight if ‘NAV FM/GPS POS DISAGREE’ ECAM warning is triggered (in all phases of flight).

Dispatch:

—If one GPS is inoperative, GPS must be deselected.”

Note 2: The AFM revision may be accomplished by inserting a copy of Airbus Temporary Revision (TR) 2.05.00/40 (for Model A319, A320, and A321 series airplanes); TR 2.05.00/38 (for Model A330 series airplanes); or TR2.05.00/47 (for A340 series airplanes); into the applicable AFM.

Modification

(b) Within 2 months after the effective date of this AD, modify the GPSSU of the satellite navigational system, in accordance with (b)(1), (b)(2), or (b)(3) of this AD, as applicable. After accomplishment of the modification, the AFM revision required by paragraph (a) of this AD may be removed from the AFM.

(1) For Model A319, A320, and A321 series airplanes: Modify the GPSSU in accordance with either Airbus Service Bulletin A320-34-1191, dated July 12, 1999, or Airbus Service Bulletin A320-34-1196, dated July 15, 1999.

(i) If modification of the GPSSU is accomplished in accordance with Airbus Service Bulletin A320-34-1191, prior to or concurrent with accomplishment of the modification, accomplish either Airbus Service Bulletin A320-34-1119, Revision 02, dated April 30, 1997, or A320-34-1196, dated July 15, 1999.

(ii) If modification of the GPSSU is accomplished in accordance with Airbus Service Bulletin A320-34-1196, prior to or concurrent with accomplishment of the modification, accomplish Airbus Service Bulletin A320-34-1119, Revision 02, dated April 30, 1997.

(2) For Model A330 series airplanes: Modify the GPSSU in accordance with either Airbus Service Bulletin A330-34-3082, Revision 01, dated September 28, 1999, or Airbus Service Bulletin A330-34-3086, Revision 01, dated September 28, 1999.

(i) If modification of the GPSSU is accomplished in accordance with Airbus Service Bulletin A330-34-3082, Revision 01, prior to or concurrent with accomplishment of the modification, accomplish either Airbus Service Bulletin A330-34-3015, dated April 3, 1995, or Airbus Service Bulletin A330-34-3086, Revision 01, dated September 28, 1999.

(ii) If modification of the GPSSU is accomplished in accordance with Airbus Service Bulletin A330-34-3086, Revision 01, prior to or concurrent with accomplishment of the modification, accomplish Airbus Service Bulletin A330-34-3015, dated April 3, 1995.

(3) For Model A340 series airplanes: Modify the GPSSU in accordance with either Airbus Service Bulletin A340-34-4089, Revision 01, dated September 28, 1999, or Airbus Service Bulletin A340-34-4092, Revision 01, dated September 28, 1999.

(i) If modification of the GPSSU is accomplished in accordance with Airbus Service Bulletin A340-34-4089, Revision 01, prior to or concurrent with accomplishment of the modification, accomplish either Airbus Service Bulletin A340-34-4022, dated April 3, 1995, or Airbus Service Bulletin A340-34-4092, Revision 01, dated September 28, 1999.

(ii) If modification of the GPSSU is accomplished in accordance with Airbus Service Bulletin A340-34-4092, Revision 01, prior to or concurrent with accomplishment of the modification, accomplish either Airbus Service Bulletin A340-34-4022, dated April 3, 1995, or Airbus Service Bulletin A340-34-4078, Revision 01, dated November 26, 1999, including Appendix 01, dated November 26, 1999.

Note 3: The Airbus service bulletins reference LITTON Service Bulletin 2001-34-13, dated July 8, 1999, and LITTON Service Bulletin 2001-34-14, dated July 5, 1999, as additional sources of service information for modifying the GPSSU.

(c) As of the effective date of this AD, no person shall install on any airplane a GPSSU having P/N 465205-0302-0302 or 465205-0302-0303.

Alternative Methods of Compliance

(d) An alternative method of compliance or adjustment of the compliance time that provides an acceptable level of safety may be used if approved by the Manager, International Branch, ANM-116, FAA, Transport Airplane Directorate. Operators shall submit their requests through an appropriate FAA Principal Maintenance and Operations Inspector, who may add comments and then send it to the Manager, International Branch, ANM-116.

Note 4: Information concerning the existence of approved alternative methods of compliance with this AD, if any, may be obtained from the International Branch, ANM-116.

Special Flight Permits

(e) Special flight permits may be issued in accordance with §§ 21.197 and 21.199 of the Federal Aviation Regulations (14 CFR 21.197 and 21.199) to operate the airplane to a location where the requirements of this AD can be accomplished.

(f) Except as provided by paragraph (a) of this AD, the actions shall be done in accordance with Airbus Service Bulletin A320-34-1191, dated July 12, 1999; Airbus Service Bulletin A320-34-1196, dated July 15, 1999; Airbus Service Bulletin A320-34-1119, Revision 02, dated April 30, 1997; Airbus Service Bulletin A330-34-3082, Revision 01, dated September 28, 1999; Airbus Service Bulletin A330-34-3086, Revision 01, dated September 28, 1999; Airbus Service Bulletin A330-34-3015, dated April 3, 1995; Airbus Service Bulletin A340-34-4089, Revision 01, dated September 28, 1999; Airbus Service Bulletin A340-34-4022, dated April 3, 1995; Airbus Service Bulletin A340-34-4092, Revision 01, dated September 28, 1999; or Airbus Service Bulletin A340-34-4078, Revision 01, including Appendix 01, dated November 26, 1999; as applicable. This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 5: The subject of this AD is addressed in French airworthiness directives 1999-361-138(B), dated September 8, 1999; 1999-354-101(B), dated September 8, 1999; and 1999-355-123(B), dated September 8, 1999; in order to assure the continued airworthiness of these airplanes in France.

(g) This amendment becomes effective on April 27, 2000.

Issued in Renton, Washington, on March 8, 2000.
Donald L. Riggin,
Acting Manager, Transport Airplane Directorate, Aircraft Certification Service.

[FR Doc. 00-6160 Filed 3-22-00; 8:45 am]

BILLING CODE 4910-13-P